DEPARTMENT OF COMMERCE

National Oceanic and Atmospheric Administration

RIN 0648-XD427

New England Fishery Management Council; Public Meeting

AGENCY: National Marine Fisheries Service (NMFS), National Oceanic and Atmospheric Administration (NOAA), Commerce.

ACTION: Notice; public meeting.

SUMMARY: The New England Fishery Management Council (Council) is scheduling a joint public meeting of its Monkfish Committee and Monkfish Advisory Panel to consider actions affecting New England fisheries in the exclusive economic zone (EEZ). Recommendations from this group will be brought to the full Council for formal consideration and action, if appropriate.

DATES: This meeting will be held on Monday, August 25, 2014 at 9:30 a.m.

ADDRESSES: The meeting will be held at the Embassy Suites Philadelphia, 9000 Bartram Avenue, Philadelphia, PA 19153; telephone: (215) 365-4500; fax: (215) 365-3195.

Council Address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The Monkfish Oversight Committee will meet to discuss whether to continue working on measures already developed under Amendment 6, or develop other measures as part of the next monkfish action. The latest version of the Amendment 6 document includes modifications to existing monkfish landing limits and days-at-sea (DAS) measures, a new monkfish DAS leasing program, and an ITQ alternative. The committee will also consider other potential measures, raised in previous discussions and by members of the industry, that could be included in a future action. The committee will also discuss Monkfish priorities for 2015, including Research Set-Aside priorities.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: August 5, 2014.
Tracey L. Thompson,
Acting Deputy Director, Office of Sustainable Fisheries, National Marine Fisheries Service.

[FR Doc. 2014-18782 Filed 8-7-14; 8:45 am]

BILLING CODE 3510-22-P